DEPARTMENT OF HEALTH AND HUMAN SERVICES

National Institutes of Health

National Institute of Neurological Disorders and Stroke; Notice of Closed Meetings

Pursuant to section 1009 of the Federal Advisory Committee Act, as amended, notice is hereby given of meetings of the Board of Scientific Counselors, National Institute of Neurological Disorders and Stroke.

The meetings will be closed to the public as indicated below in accordance with the provisions set forth in sections 552b(c)(6), Title 5 U.S.C., as amended for the review, discussion, and evaluation of individual intramural programs and projects conducted by the National Institute of Neurological Disorders and Stroke, including consideration of personnel qualifications and performance, and the competence of individual investigators, the disclosure of which would constitute a clearly unwarranted invasion of personal privacy.

Name of Committee: Board of Scientific Counselors, National Institute of Neurological Disorders and Stroke.

Date: February 3, 2026.

Time: 9:00 a.m. to 6:00 p.m.

Agenda: To review and evaluate personnel qualifications and performance, and competence of individual investigators.

Address: Porter Neuroscience Research Center, Building 35A, 35 Convent Drive, Bethesda, MD 20892.

Meeting Format: Virtual Meeting.

Contact Person: Caren Collins, Program Specialist, Division of Intramural Research, NINDS, Bethesda, MD 20892.

Name of Committee: Board of Scientific Counselors, National Institute of Neurological Disorders and Stroke.

Date: February 9-10, 2026.

Time: 8:30 a.m. to 3:00 p.m.

Agenda: To review and evaluate personnel qualifications and performance, and competence of individual investigators.

Address: Porter Neuroscience Research Center, Building 35A, 35 Convent Drive, Bethesda, MD 20892.

Meeting Format: Virtual Meeting.

Contact Person: Caren Collins, Program Specialist, Division of Intramural Research, NINDS, Bethesda, MD 20892.

Any interested person may file written comments with the committee by forwarding the statement to the Contact Person listed on this notice. The statement should include the name, address, telephone number and when applicable, the business or professional affiliation of the interested person.

Dated: January 9, 2026.
Bruce A. George,
Program Analyst, Office of Federal Advisory Committee Policy.

[FR Doc. 2026-00549 Filed 1-13-26; 8:45 am]

BILLING CODE 4140-01-P